DEPARTMENT OF TRANSPORTATION

Federal Motor Carrier Safety Administration

[Docket No. FMCSA-2016-0394]

60-Day Notice of Proposed Information Collection: Flexible Sleeper Berth Pilot Program

AGENCY: Federal Motor Carrier Safety Administration (FMCSA), DOT.

ACTION: Notice and request for comments.

SUMMARY: FMCSA is seeking approval from the Office of Management and Budget (OMB) for the information collection described below. In accordance with the Paperwork Reduction Act, FMCSA is requesting comment from all interested parties on the proposed collection of information. The purpose of this notice is to allow for 60 days of public comment. FMCSA proposes a pilot program to allow temporary regulatory relief from the Agency's sleeper berth regulation for a limited number of commercial drivers who have a valid commercial driver's license (CDL), and who regularly use a sleeper berth to accumulate their required 10 hours of non-duty work status. During the pilot program, participating drivers would have the option to split their sleeper berth time within parameters specified by FMCSA. Driver metrics would be collected for the duration of the study, and participants' safety performance and fatigue levels would be analyzed. This pilot program seeks to produce statistically reliable evidence on the question as to whether split sleeper berth time affects driver safety performance and fatigue levels.

DATES: Comments must be received on or before August 28, 2017.

ADDRESSES: You may submit comments bearing the Federal Docket Management System (FDMS) Docket ID FMCSA-2016-0394 using any of the following methods:

• Federal eRulemaking Portal: http://www.regulations.gov. Follow the online instructions for submitting comments.

• Fax: 1-202-493-2251.

• Mail: Docket Operations, U.S. Department of Transportation, 1200 New Jersey Ave. SE., West Building, Ground Floor, Room W12-140, Washington, DC 20590-0001.

• Hand Delivery or Courier: 1200 New Jersey Avenue SE., West Building, Ground Floor, Room W12-140, Washington, DC 20590 between 9 a.m. and 5 p.m., Monday through Friday, except Federal holidays.

Instructions: All submissions must include the Agency name and the docket number. For detailed instructions on submitting comments, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public Participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: Nicole Michel, Research Division, Federal Motor Carrier Safety Administration, 1200 New Jersey Avenue SE., Washington, DC 20590-0001, by email at nicole.michel@dot.gov, or by telephone at (202) 366-4354. If you have questions on viewing or submitting material to the docket, contact Docket Services, telephone (202) 366-9826.

SUPPLEMENTARY INFORMATION:

Title: Flexible Sleeper Berth Pilot Program.

OMB Control Number: 2126-00XX.

Type of Request: New information collection.

Respondents: Large, medium, and small motor carriers; independent owner-operators; commercial motor vehicle (CMV) drivers.

Estimated Number of Respondents: 10 motor carrier responses; 1,000 CMV driver responses (this estimate includes responses to the online application; not all of these drivers will be eligible or selected for study participation).

Estimated Time per Response: Motor carriers: 1 hour (one-time response). Drivers: online application—15 minutes (one-time response); background questionnaire and tax form—30 minutes (one-time response); daily field study data collection—30 minutes (daily, for a maximum of 90 days); weekly phone briefings—10 minutes (once weekly, for a maximum of 13 weeks); debriefing questionnaire—15 minutes (one-time response).

Expiration Date: N/A. This is a new information collection request (ICR).

Frequency of Response: Motor carriers: One-time response. Drivers: Varies; will not exceed daily responses for 90 days (see “Estimated Time for Response” for more details).

Estimated Total Annual Burden: 4,423 hours (7 hours for carrier tasks and 4,416 hours for driver tasks). The total annual number of carrier responses is seven. Reviewing the study materials and granting permission for drivers to participate is estimated to take 1 hour per carrier. Participating driver burden is associated with completing the online application, background questionnaire, daily data collection during the field study period, weekly phone briefings, and debriefing questionnaire. The online application is estimated to take 15 minutes, the background questionnaire and tax form (completed together) is estimated to take 30 minutes, and the debriefing questionnaire is estimated to take 15 minutes. Daily data collection during the field study is estimated to take 30 minutes per day, for up to 90 days. Weekly phone briefings are estimated to take 10 minutes per week. It is estimated that 40 drivers will participate for 14 days, 75 drivers will participate for 30 days, 75 drivers will participate for 60 days, and 50 drivers will participate for the maximum 90 days.

I. Background

As described in 49 CFR 395.1(g)(1), a driver who operates a property-carrying CMV equipped with a sleeper berth ¹ and who uses the sleeper berth provision must take at least 8 consecutive hours in the sleeper berth, plus a separate 2 consecutive hours either in the sleeper berth, off duty, or any combination of the two, before returning to on-duty status.

¹ A “sleeper berth” is a sleeping compartment installed on a CMV that complies with the specifications in 49 CFR 393.76.

During listening sessions for the hours-of-service (HOS) rulemaking, the Agency heard from many drivers that they would like some regulatory flexibility to be able to sleep when they get tired or as a countermeasure to traffic congestion (i.e., an exemption from the requirement for consolidated sleeper berth time). FMCSA has reviewed the literature and conducted its own laboratory studies on the subject. The majority of sleep studies to date demonstrate that well-timed split sleep has either a positive or no effect on subsequent neurobehavioral performance. To determine whether split sleeper berth time affects driver safety performance and fatigue levels, FMCSA is introducing a pilot program to allow temporary regulatory relief from 49 CFR 395.1(g)(1) (the sleeper berth provision) for a limited number of commercial drivers who have valid commercial driver's licenses (CDLs) and who regularly use sleeper berths.

II. Abstract of Pilot Program

The Flexible Sleeper Berth Pilot Program requires that participating drivers be provided relief from Part 395 concerning consolidated sleeper berth time requirements. Participating drivers will be asked if they have completed the Driver Education Module of the North American Fatigue Management Program (NAFMP) prior to study enrollment. If drivers have not completed the program, they will be given information on the program and encouraged, but not required, to complete these modules prior to participation in the study. During the pilot program, participating drivers will have the option to split their sleeper berth time, within parameters specified by FMCSA (i.e., participants will have exemption from the requirement for consolidated sleeper berth time). Driver metrics will be collected for the duration of the study, as discussed in Section III of this notice. Upon completion of the program, participants' safety performance and fatigue levels will be analyzed, according to provision use, using a “within-subject and between-subject” study design. In this analysis, drivers will be compared among themselves and against other participating drivers. This pilot program seeks to produce statistically reliable evidence of the relationship between the degree of HOS flexibility and safety outcomes.

III. Data Collection Plan

Details of the data collection plan for this pilot program are subject to change based on comments to the docket and further review by analysts. Participating drivers will drive an instrumented vehicle for up to 3 consecutive months. At a minimum, FMCSA will gather the following data during the study:

• Electronic logging device (ELD) data, to evaluate duty hours and timing, driving hours and timing, rest breaks, off-duty time, and restart breaks.

• Onboard monitoring system (OBMS) data, to evaluate driving behaviors, safety-critical events (or SCEs, which include crashes, near-crashes, and other safety-related events), reaction time, fatigue, lane deviations, and traffic density, road curvature, and speed variability.

• Roadside violation data (from carriers and drivers), including vehicle, duty status, hazardous materials, and cargo-related violations (contingent upon inspections).

• Wrist actigraphy data,² to evaluate total sleep time, time of day sleep was taken, sleep latency, and intermittent wakefulness.

² Participants will wear wrist actigraphy devices (similar to commercially available smart fitness watches) throughout their time in the study. Actigraphy is a minimally obtrusive, validated approach to assessing sleep/wake patterns.

• Psychomotor Vigilance Test (PVT) ³ data, to evaluate drivers' behavioral alertness based on reaction times.

³ For this study, drivers will be required to complete daily iterations of a brief PVT, a 3-minute behavioral alertness test which measures drivers' alertness levels by timing their reactions to visual stimuli.

• Subjective sleepiness ratings, using the Karolinska Sleepiness Scale (KSS),⁴ to measure drivers' perceptions of their fatigue levels.

⁴ The KSS is a 9-point Likert-type scale ranging from “extremely alert” to “extremely sleepy” and has been widely used in the literature as a subjective assessment of alertness.

• Sleep logs, in which drivers will document when they are going to sleep, when they wake up, and whether they are using the sleeper berth. For split-sleep days, drivers will record how and why they chose to split their sleep.

Other information that may be needed, such as vehicle miles traveled (VMT), will also be collected through the participating carrier. Every effort will be made to reduce the burden on the carrier in collecting and reporting this data.

IV. Paperwork Reduction Act

The Paperwork Reduction Act of 1995 (the PRA) (44 U.S.C. 3501-3520) prohibits agencies from conducting information collection (IC) activities until they analyze the need for the collection of information and how the collected data will be managed. Agencies must also analyze whether technology could be used to reduce the burden imposed on those providing the data. The Agency must estimate the time burden required to respond to the IC requirements, such as the time required to complete a particular form. The Agency submits its IC analysis and burden estimate to OMB as a formal ICR; the Agency cannot conduct the information collection until OMB approves the ICR.

V. Request for Public Comments

FMCSA asks for comment on the IC requirements of this study. Comments can be submitted to the docket as outlined under ADDRESSES at the beginning of this notice. You are asked to comment on any aspect of this information collection, including:

1. Whether the proposed collection is necessary for the performance of FMCSA's functions.

2. The accuracy of the estimated burden.

3. Ways for FMCSA to enhance the quality, usefulness, and clarity of the collected information.

4. Ways that the burden could be minimized without reducing the quality of the collected information.

5. Whether the data collection efforts proposed for carriers and drivers are burdensome enough to discourage their participation.

6. How data collection efforts should differ for team drivers.

Issued under the authority of 49 CFR 1.87 on: June 20, 2017.
Kelly Regal,
Associate Administrator, Office of Research and Information Technology.

[FR Doc. 2017-13453 Filed 6-26-17; 8:45 am]

BILLING CODE 4910-EX-P